DEPARTMENT OF HEALTH AND HUMAN SERVICES

Centers for Disease Control and Prevention

[Program Announcement 02228]

Men Involved in STD Training Empowerment Research Study (MISTERS): A Community-Based STD/HIV Intervention for Men Newly Released From Jail; Notice of Award of Funds

A. Purpose

The Centers for Disease Control and Prevention (CDC) announces the award of fiscal year (FY) 2002 funds for a grant program, “MISTERS, Men Involved in STD Training Empowerment Research Study” to be performed by STAND, Inc. Persons entering correctional facilities have been shown to have a high prevalence of Sexually Transmitted Diseases (STDs). This is of profound public health importance in the United States. Approximately 5% of the population can be expected to serve a sentence in federal or state prison. Many crimes are in some way associated with drug use, which is, in turn, associated with high-risk sexual behavior. Correctional facilities are not consistent in the use of STD screening among inmates, often relying on inmate self-reporting of symptoms. Even in cases where arrestees are routinely screened, they are often released within 48 hours, too soon for screening results to be available. Since there is a proven association between drug use and high risk sexual behaviors, and a strong likelihood that detainees will be released either without being screened for STDS or too soon for the screening results to be available, there is a significant public health need for post-release services that include a STD prevention intervention that includes early STD screening, treatment and risk-reducing behaviors. The MISTERS project will test the feasibility of such an intervention using a community-based organization, STAND, Inc. STAND is already working with men who have histories of substance use and incarceration.

B. Eligible Applicant

Assistance is provided only to STAND, Inc. STAND's application contained an important and unique scientific proposal that was not submitted in response to any existing program announcement, but does fall under the broad embrace of the Government's public health initiative Human Immunodeficiency Virus (HIV) Prevention. The CDC Division of Sexually Transmitted Disease Prevention (DSTD) performed a thorough review of STAND's proposal and determined that it would significantly advance the state of medical knowledge and provide a unique contribution to the understanding of the effectiveness of post-incarceration behavioral intervention in the reduction of high-risk sexual behavior.

C. Funds

Approximately $500,000 is being awarded in FY 2002. The award will begin on or about September 30, 2002, and will be made for a 12-month budget period within a project period of one year.

D. Where To Obtain Additional Information

For business management technical assistance, contact: William J. Ryan, Jr., CPCM, Grants Management Officer, Procurement and Grants Office, Centers for Disease Control and Prevention, 2920 Brandywine Road, Room 3000, Atlanta, GA 30341-4146. Telephone number: 770-488-2717. E-mail address: wfr4@cdc.gov.

For program technical assistance, contact: Samantha Williams, Ph.D., Division of STD Prevention, Centers for Disease Control and Prevention, NCHSTP/DSTD, 10 Corporate Square Blvd, Atlanta, GA 30329. Telephone number 404-639-8620. E-mail address SWilliams@cdc.gov.

Dated: September 20, 2002.
Sandra R. Manning,
CGFM, Director, Procurement and Grants Office, Centers for Disease Control and Prevention.

[FR Doc. 02-24575 Filed 9-26-02; 8:45 am]

BILLING CODE 4163-18-P